DEPARTMENT OF HOMELAND SECURITY

Coast Guard

33 CFR Part 117

[Docket No. USCG-2016-0285]

Drawbridge Operation Regulation; Atlantic Intracoastal Waterway, South Branch of the Elizabeth River, Chesapeake, VA

AGENCY: Coast Guard, DHS.

ACTION: Notice of deviation from drawbridge regulation.

SUMMARY: The Coast Guard has issued a temporary deviation from the operating schedule that governs the Norfolk Southern #7 Railroad Bridge across the Atlantic Intracoastal Waterway, South Branch of the Elizabeth River, mile 5.8, at Chesapeake, VA. The deviation is necessary to perform urgent bridge repairs. This deviation allows the bridge to remain in the closed-to-navigation position.

DATES: This deviation is effective without actual notice from April 26, 2016 through 1 p.m. on June 9, 2016. For the purposes of enforcement, actual notice will be used from 9 a.m. on April 25, 2016, until April 26, 2016.

ADDRESSES: The docket for this deviation, [USCG-2016-0285] is available at http://www.regulations.gov. Type the docket number in the “SEARCH” box and click “SEARCH”. Click on Open Docket Folder on the line associated with this deviation.

FOR FURTHER INFORMATION CONTACT: If you have questions on this temporary deviation, call or email Mrs. Traci Whitfield, Bridge Administration Branch Fifth District, Coast Guard; telephone (757) 398-6629, email Traci.G.Whitfield@uscg.mil.

SUPPLEMENTARY INFORMATION: Norfolk Southern, the bridge owner that operates the #7 Railroad Bridge, has requested a temporary deviation from the current operating regulation to perform urgent repairs by changing the flat tracks across the north and south girders in two phases. The bridge is a single bascule span and has a vertical clearance in the closed position of seven feet above mean high water.

Under this temporary deviation, the bridge will remain in the closed-to-navigation position from 9 a.m. to 1 p.m. Monday through Thursday, April 25 to May 26, 2016; and from 9 a.m. to 1 p.m. Monday through Thursday, June 6 to June 9, 2016. At all other times, the bridge will operate in accordance with the operating regulations set out in 33 CFR 117.997(d).

Vessels able to pass through the bridge in the closed position may do so at any time. The bridge will not be able to open for emergencies and there is no alternate route for vessels unable to pass through the bridge in the closed position. The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: April 21, 2016.
Hal R. Pitts,
Bridge Program Manager, Fifth Coast Guard District.

[FR Doc. 2016-09659 Filed 4-25-16; 8:45 am]

BILLING CODE 9110-04-P